DEPARTMENT OF HEALTH AND HUMAN SERVICES

Centers for Disease Control and Prevention

[60Day-15-15UJ; Docket No. CDC-2015-0019]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on procedures to conduct interviews with Age Friendly Initiative, Senior Village, and local health department staff, as well as surveys of older adults.

DATES: Written comments must be received on or before June 8, 2015.

ADDRESSES: You may submit comments, identified by Docket No. CDC-2015-0019 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road, NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Examining how Local Health Departments can Leverage Age-Friendly Cities Initiatives to Build Resilience in Elderly Populations—New—Office of Public Health Preparedness and Response (OPHPR), Centers for Disease Control and Prevention (CDC).

Background and Brief Description

Despite considerable progress in efforts to define and build community resilience (CR), critical gaps remain in addressing the needs of older adults (age 60+), which is expected to rise to 25% by 2050. Age Friendly Initiatives (AFIs), including Senior Villages (SV) represent a promising strategy for U.S. communities and cities to support older adults aging in place, and could potentially build CR. However, few AFIs have wholly incorporated the critical element of emergency preparedness and resilience. Even when these domains have been included, there is no evaluation of whether these efforts have resulted in improved resilience outcomes among seniors (e.g., greater self-sufficiency).

CDC is requesting a 24-month OMB clearance period to conduct and analyze telephone interview data to identify how current AFIs and CR efforts align; understand AFI and SV relationships with LHDs; clarify the process through which policymakers can incorporate CR into AFIs; survey test sites in a quasi-experimental design of AFIs currently underway; and develop a toolkit to help LHDs identify the need for AFIs, evaluate and monitor AFIs ability to improve resilience, develop effective and efficient partnerships with AFIs to expand AFI-LHD efforts across the U.S to build community resilience.

RAND Corporation research staff will conduct the telephone interviews (average of 30 minutes) over a 3-9 month period beginning approximately one month after OMB approval. The target universe for the interviews with key informants comprises three types of respondents (a) SV executive directors; (b) AFI staff; and (c) local public health department officials. SVs are neighborhood-based and are grassroots organizations usually led by older adult residents. AFIs in the U.S. can be either city-based or county-based and are led by city/county-level administration, health departments, academic centers, and/or volunteer organizations. CDC will recruit no more than 30 SV executive directors, 31 staff from AFIs, and 15 local health department officials.

To assess the variability in AFIs and SVs and identify opportunities for integrating community resilience goals and activities into their development and ongoing activities, CDC will conduct qualitative interviews using semi-structured interview guides (each interview guide for the three groups is different). These interview guides ask about the AFIs' or SVs' structure, stage of implementation, linkage with public health departments, and whether (and what types) of emergency preparedness (EP) activities are provided to older adults in their community.

For the telephone survey of older adults, data collection by a survey firm will take place over a 9-15 month period beginning approximately 9 months after OMB approval. The sample will comprise of 1,550 adults age 65 and older from three types of communities: Communities with SVs that engage in EP activities, communities with SVs that do not engage in EP activities, and control communities without SVs or other AFIs.

The survey firm will conduct a random digit dial (RDD) survey (approximately 20 minutes) of 1,550 older adults to evaluate the effects of being village member versus not living in a SV, and the effects of living in a SV with EP preparedness activities.

SV members will be identified and recruited in two ways: Member lists with contact information will be submitted to the research team by SV executive directors or SV executive directors will send a recruitment letter on our behalf. The survey will begin with a screening question to identify SV member status (1-2 minutes). We anticipate that we will need to screen out approximately 1,431 participants to identify our target sample: SV members who live in an SV that does engage in EP activities; SV members who live in a SV that do not engage in EP activities; and older adults that do not live in a SV. The outcomes and control variables we will measure in the survey of older adults are: Disaster resilience, social connectedness, self-sufficiency, emotional resilience, attention to health needs, exposure to age-friendly initiatives, age, gender, race/ethnicity, length of time living in community, current living situation, income, and presence of chronic health conditions.

There are no costs to respondents other than their time. The total estimated annual burden hours are 580. A summary of annualized burden hours is below.

Estimated Annualized Burden Hours
Type of respondents | Form name | Number of respondents | Number of responses per respondent | Avg. burden per response (in hrs) | Total burden (in hrs)
Age Friendly Initiative Staff | Interview Guide for Age Friendly Initiative Staff | 31 | 1 | 30/60 | 16
Senior Village Director | Interview Guide for Senior Village Director | 30 | 1 | 30/60 | 15
Local Health Department Representative | Interview Guide for Local Health Department Representative | 15 | 1 | 30/60 | 8
Older Adult—Screened Out | Senior Village Survey | 1,431 | 1 | 1/60 | 24
Older Adult—Participant | Senior Village Survey | 1,550 | 1 | 20/60 | 517
Total |  |  |  |  | 580

Leroy A. Richardson,
Chief, Information Collection Review Office, Office of Scientific Integrity, Office of the Associate Director for Science, Office of the Director, Centers for Disease Control and Prevention.

[FR Doc. 2015-08027 Filed 4-7-15; 8:45 am]

BILLING CODE 4163-18-P